SMALL BUSINESS ADMINISTRATION

[Declaration of Economic Injury Disaster #9R57]

State of Louisiana; Disaster Loan Areas

Cameron, Jefferson, Lafourche and Terrebonne Parishes and the contiguous Parishes of Assumption, Calcasieu, Jefferson Davis, Orleans, Plaquemines, St. Charles, St. James, St. John the Baptist, St. Mary and Vermillion in the State of Louisiana; and Jefferson and Orange Counties in the State of Texas constitute an economic injury disaster loan area as a result of an extensive cold front reaching far into the coastal areas of Southern Louisiana on May 13 through May 23, 2002. Eligible small businesses and small agricultural cooperatives without credit available elsewhere may file applications for economic injury assistance as a result of this disaster until the close of business on June 20, 2003 at the address listed below or other locally announced locations: Small Business Administration, Disaster Area 3 Office, 4400 Amon Carter Blvd., Suite 102, Ft. Worth, TX 76155.

The interest rate for eligible small businesses and small agricultural cooperatives is 3.5 percent.

The number assigned for economic injury for this disaster is 9R5700 for the State of Louisiana and 9R5800 for the State of Texas.

(Catalog of Federal Domestic Assistance Program No. 59002.)
Dated: September 20, 2002.
Hector V. Barreto,
Administrator.

[FR Doc. 02-24557 Filed 9-26-02; 8:45 am]

BILLING CODE 8025-01-P